DEPARTMENT OF COMMERCE

International Trade Administration

[A-351-825]

Stainless Steel Bar From Brazil: Final Results of Antidumping Duty Administrative Review

AGENCY: Import Administration, International Trade Administration, Department of Commerce.

SUMMARY: On March 16, 2010, the Department of Commerce (the Department) published the preliminary results of its administrative review of the antidumping duty order on certain stainless steel bar from Brazil. The review covers one producer/exporter of the subject merchandise, Villares Metals S.A. (VMSA). The period of review (POR) is February 1, 2008, through January 31, 2009. We gave interested parties an opportunity to comment on our preliminary results. We received one comment. The final weighted-average dumping margin for VMSA is listed below in the “Final Results of Review” section of this notice.

EFFECTIVE DATE: July 12, 2010.

FOR FURTHER INFORMATION CONTACT: Catherine Cartsos or Minoo Hatten, AD/CVD Operations, Office 5, Import Administration, International Trade Administration, U.S. Department of Commerce, 14th Street and Constitution Avenue, NW, Washington, DC 20230, telephone: (202) 482-1757 or (202) 482-1690, respectively.

SUPPLEMENTARY INFORMATION:

Background

On March 16, 2010, the Department published the preliminary results of its administrative review of the antidumping duty order on certain stainless steel bar from Brazil. See Stainless Steel Bar From Brazil: Preliminary Results of Antidumping Duty Administrative Review, 75 FR 12514 (March 16, 2010) (Preliminary Results). We invited interested parties to comment on the Preliminary Results. On May 5, 2010, we released a post-preliminary analysis in which we altered the cost-of-production methodology from that which we applied for the Preliminary Results. See discussion below. On May 13, 2010, we received a case brief from the petitioners (Carpenter Technology Corporation, Valbruna Slater Stainless, Inc., Electralloy Corporation, a Division of G.O. Carlson, Inc., and Universal Stainless). We did not receive a request for a hearing from any interested party.

The Department is conducting this administrative review in accordance with section 751 of the Tariff Act of 1930, as amended (the Act).

Scope of the Order

The scope of the order covers stainless steel bar (SSB). The term SSB with respect to the order means articles of stainless steel in straight lengths that have been either hot-rolled, forged, turned, cold-drawn, cold-rolled or otherwise cold-finished, or ground, having a uniform solid cross section along their whole length in the shape of circles, segments of circles, ovals, rectangles (including squares), triangles, hexagons, octagons or other convex polygons. SSB includes cold-finished SSBs that are turned or ground in straight lengths, whether produced from hot-rolled bar or from straightened and cut rod or wire, and reinforcing bars that have indentations, ribs, grooves, or other deformations produced during the rolling process. Except as specified above, the term does not include stainless steel semi-finished products, cut-length flat-rolled products (i.e., cut-length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes and sections. The SSB subject to the order is currently classifiable under subheadings 7222.10.0005, 7222.10.0050, 7222.20.0005, 7222.20.0045, 7222.20.0075, and 7222.30.0000 of the Harmonized Tariff Schedule of the United States (HTSUS). Although the HTSUS subheadings are provided for convenience and customs purposes, the written description of the scope of the order is dispositive.

Alternative Cost Methodology

In our Preliminary Results we relied on our standard methodology of comparing U.S. prices to monthly home-market prices (see Preliminary Results, 75 FR at 12516), and we compared the home-market prices to POR costs for the cost-of-production test under section 773(b)(1) of the Act. We indicated in the Preliminary Results that we would consider applying an alternative cost methodology after analyzing product-specific quarterly cost information. We announced in the Preliminary Results that we would release revised analysis if we found it appropriate to use quarterly costs, based on VMSA's supplemental cost data, and that we would give the parties an opportunity to comment on any revised analysis prior to the final results. See Preliminary Results, 75 FR at 12516.

Subsequent to our Preliminary Results, we analyzed VMSA's quarterly cost data and determined that the use of the alternative cost methodology is appropriate in this case because the changes in the quarterly cost of manufacture were significant and we can reasonably link the prices of sales made during the quarters with the production costs during the same quarters. See, e.g., Stainless Steel Plate in Coils From Belgium: Final Results of Antidumping Duty Administrative Review, 73 FR 75398, 75399 (December 11, 2008), and Stainless Steel Sheet and Strip in Coils from Mexico; Final Results of Antidumping Duty Administrative Review, 74 FR 6365 (February 9, 2009). Accordingly, we applied the cost test using quarterly average costs and home-market transaction prices. Further, consistent with our practice in reviews, we continued to compare monthly average home-market prices to individual U.S. prices in the calculation of the margin but confined those comparisons to the same quarter. See Stainless Steel Sheet and Strip in Coils From Mexico; Preliminary Results of Antidumping Duty Administrative Review and Intent Not To Revoke Order in Part, 74 FR 39622, 39629 (August 7, 2009) (unchanged in Stainless Steel Sheet and Strip in Coils From Mexico: Final Results of Antidumping Duty Administrative Review, 75 FR 6627 (February 10, 2010)). A detailed explanation of our analysis can be found in the May 5, 2010, memorandum entitled “Cost of Production and Constructed Value Calculation Adjustments for the Post-Preliminary Analysis” and the May 5, 2010, memorandum entitled “Post Preliminary Calculations Analysis Memorandum” which were released to interested parties for comment.

Based on our cost-of-production analysis, we disregarded below-cost sales by VMSA in the home market.

Analysis of Comments Received

In their case brief, the petitioners claim that the Department made a ministerial error by neglecting to reduce the U.S. gross unit price for movement expenses VMSA reported under the computer variable for U.S. duties in calculating the net U.S. price for constructed export-price transactions, thereby resulting in an understatement of VMSA's dumping margin. The petitioners request that the Department correct this ministerial error for the final results of the review.

We reviewed the petitioners' allegation and agree that correction of the error is appropriate. Accordingly, for the final results we have recalculated the net U.S. price for constructed export-price transactions by reducing the U.S. gross unit price for these movement expenses. See Final Analysis Memorandum, dated concurrently with this notice, for detailed information on this change.

Final Results of Review

As a result of our review, we determine that the weighted-average dumping margin for VMSA is 3.70 percent for the period February 1, 2008, through January 31, 2009.

Assessment Rates

The Department shall determine, and U.S. Customs and Border Protection (CBP) shall assess, antidumping duties on all appropriate entries. In accordance with 19 CFR 351.212(b)(1), we have calculated importer/customer-specific assessment rates for these final results of review. We divided the total dumping margins for the reviewed sales by the total entered value of those reviewed sales for each reported importer or customer. We will instruct CBP to assess the importer/customer-specific rate uniformly, as appropriate, on all entries of subject merchandise made by the relevant importer or customer during the POR. See 19 CFR 351.212(b).

The Department clarified its “automatic assessment” regulation on May 6, 2003. This clarification will apply to entries of subject merchandise during the POR produced by VMSA for which VMSA did not know its merchandise was destined for the United States. In such instances, we will instruct CBP to liquidate unreviewed entries of VMSA-produced merchandise at the all-others rate if there is no rate for the intermediate company(ies) involved in the transaction. For a full discussion of this clarification, see Antidumping and Countervailing Duty Proceedings: Assessment of Antidumping Duties, 68 FR 23954 (May 6, 2003).

The Department intends to issue instructions to CBP 15 days after the publication of these final results of review.

Cash-Deposit Requirements

The following deposit requirements will be effective upon publication of this notice of final results of administrative review for all shipments of SSB from Brazil entered, or withdrawn from warehouse, for consumption on or after the date of publication, as provided by section 751(a)(2)(C) of the Act: (1) the cash-deposit rate for VMSA will be 3.70 percent; (2) for previously reviewed or investigated companies not listed above, the cash-deposit rate will continue to be the company-specific rate published for the most recent period; (3) if the exporter is not a firm covered in this review, a prior review, or the less-than-fair-value investigation but the manufacturer is, the cash-deposit rate will be the rate established for the most recent period for the manufacturer of the merchandise; (4) if neither the exporter nor the manufacturer has its own rate, the cash-deposit rate will be the all-others rate for this proceeding, 19.43 percent. See Notice of Final Determination of Sales at Less Than Fair Value: Stainless Steel Bar From Brazil, 59 FR 66914 (December 28, 1994). These deposit requirements shall remain in effect until further notice.

Notification to Parties

This notice serves as a reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (APO) of their responsibility concerning the disposition of proprietary information disclosed under APO in accordance with 19 CFR 351.305(a)(3). Timely notification of the destruction of APO materials or conversion to judicial protective order is hereby requested. Failure to comply with the regulations and the terms of an APO is a sanctionable violation.

These final results of administrative review are issued and published in accordance with sections 751(a)(1) and 777(i)(1) of the Act.

Dated: July 1, 2010.
Ronald K. Lorentzen,
Deputy Assistant Secretary for Import Administration.

[FR Doc. 2010-16912 Filed 7-9-10; 8:45 am]

BILLING CODE 3510-DS-S